DEPARTMENT OF THE INTERIOR

Geological Survey

Application Notice Describing the Areas of Interest and Establishing the Closing Date for Receipt of Applications Under the National Earthquake Hazards Reduction Program (NEHRP) for Fiscal Year (FY) 2004

AGENCY: Geological Survey, Department of the Interior.

ACTION: Notice.

SUMMARY: Applications are invited for research projects under the NEHRP.

The purpose of the USGS Earthquake Hazards Program is to provide products for earthquake loss reduction to the public and private sectors and by carrying out research on earthquake occurrence and effects.

Applications may be submitted by educational institutions, private firms, private foundations, individuals, and agencies of state and local governments.

ADDRESSES: The program announcement is expected to be available on or about March 24, 2003. You may obtain a copy of Announcement No. 04HQPA0001 from the USGS Contracts and Grants Information site at http://www.usgs.gov/contracts/nehrp/ or by writing to Kimberly Dove, U.S. Geological Survey, Office of Acquisition and Grants—Mail Stop 205G, 12201 Sunrise Valley Drive, Reston, Virginia 20192, or by fax (703) 648-7901.

DATES: The closing date for receipt of applications will be on or about May 1, 2003. The actual closing date will be specified in Announcement No. 04HQPA0001.

FOR FURTHER INFORMATION CONTACT: John Unger, Earthquake Hazards Reduction Program—U.S. Geological Survey, Mail Stop 905, 12201 Sunrise Valley Drive, Reston, Virginia 20192. Telephone: (703) 648-6701.

SUPPLEMENTARY INFORMATION: Authority for this program is contained in the Earthquake Hazards Reduction Act of 1977, Public Law 95-124 (42 U.S.C. 7701 et seq.). The Office of Management and Budget Catalog of Federal Domestic Assistance Number is 15.807.

This program announcement is being issued in accordance with the Paperwork Reduction Act Statement. OMB No. 1028-0051 expiration date: November 30, 2003.

Notice—This will be the last year that the National Earthquake Hazards Reduction Program (NEHRP) will be posted in the Federal Register. Future notices will be posted at the Governmentwide grant opportunities board at http://fedgrants.gov.

Dated: March 7, 2003.
Carol F. Aten,
Chief, Office of Administrative Policy and Services.

[FR Doc. 03-6889 Filed 3-21-03; 8:45 am]

BILLING CODE 4310-47-M